FEDERAL COMMUNICATIONS COMMISSION

Radio Broadcasting Services; AM or FM Proposals To Change the Community of License.

AGENCY: Federal Communications Commission.

ACTION: Notice.

SUMMARY: The following applicants filed AM or FM proposals to change the community of license: CALVARY CHAPEL OF CASA GRANDE, Station KVNG, Facility ID 175820, BMPED-20130312ABR, From CHUICHU, AZ, To ELOY, AZ; CALVARY CHAPEL OF TWIN FALLS, INC., Station KGSF, Facility ID 92987, BPED-20130318AFZ, From GREEN FOREST, AR, To HUNTSVILLE, AR; CARROLL COUNTY BROADCASTING, INC., Station KAKS, Facility ID 69858, BPH-20130318AGJ, From HUNTSVILLE, AR, To GOSHEN, AR; CARROLL COUNTY BROADCASTING, INC., Station KTHS, Facility ID 35668, BP-20130318AGK, From BERRYVILLE, AR, To GREEN FOREST, AR; FOREVER BROADCASTING, LLC, Station WFGE, Facility ID 1057, BPH-20130325AJI, From TYRONE, PA, To STATE COLLEGE, PA; INVISIBLE ALLIES MINISTRIES, Station WRVI, Facility ID 176200, BMPED-20130227AAH, From SAINT MARYS, PA, To RIDGWAY, PA; INVISIBLE ALLIES MINISTRIES, Station WRQV, Facility ID 175421, BPED-20130227AAI, From RIDGWAY, PA, To MAHAFFEY, PA; LASER LICENSES, LLC, Station KMLY, Facility ID 164096, BPH-20130411AAK, From CARMEL VALLEY, CA, To GONZALES, CA; SPIRIT BROADCASTING GROUP, INC., Station WKBR-FM, Facility ID 173901, BMPED-20130401ABH, From BRANCHVILLE, SC, To SUMMERVILLE, SC; TELIKOJA EDUCATIONAL BROADCASTING INC., Station WPAL, Facility ID 177311, BMPED-20130219ABX, From LAPORTE, PA, To NEW ALBANY, PA.

DATES: The agency must receive comments on or before June 18, 2013.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC, 20554, telephone 1-800-378-3160 or www.BCPIWEB.com.

Federal Communications Commission.
James D. Bradshaw,
Deputy Chief, Audio Division, Media Bureau.

[FR Doc. 2013-09276 Filed 4-18-13; 8:45 am]

BILLING CODE 6712-01-P